DEPARTMENT OF DEFENSE

Department of the Air Force

Members of the Performance Review Board for the Department of the Air Force

AGENCY: Department of the Air Force, Department of Defense.

ACTION: Notice.

SUMMARY: Notice is given of the names of members of the 2024 Performance Review Board for the Department of the Air Force.

DATES: Applicable December 16, 2024.

FOR FURTHER INFORMATION CONTACT: Please direct any written comments or requests for information to Ms. Virginia Reynolds (Primary Point of Contact) and Ms. Jacquelyn Salkeld, Department of the Air Force Civilian Senior Executive Management Office, SAF/MRL, 1660 Air Force Pentagon, Washington, DC 20330-1040, Primary POC telephone (703) 695-4555; email virginia.reynolds@us.af.mil.

SUPPLEMENTARY INFORMATION: Pursuant to 5 U.S.C. 4314(c) (1-5), the Department of the Air Force announces the appointment of members to the Air Force's Senior Executive Service (SES) Performance Review Board. Appointments are made by the authorizing official. Each board member shall review and evaluate performance scores provided by the Senior Executive's rater/immediate supervisor. Performance standards must be applied consistently across the Air Force. The board will make final recommendations to the authorizing official relative to the performance of the executive.

The members of the 2024 Performance Review Board for the Air Force are:

1. Honorable Alex Wagner (Chair), Assistant Secretary of the Air Force for Manpower and Reserve Affairs

2. General Duke Richardson (Co-Chair), Commander, Air Force Materiel Command

3. Ms. Gwendolyn DeFilippi, Principal Deputy Assistant Secretary of the Air Force for Manpower and Reserve Affairs

4. Mr. Carlos Rodgers, Principal Deputy Assistant Secretary of the Air Force for Financial Management and Comptroller

5. Major General Michael Martin, Director of Operations, United States Special Operations Command

6. Mr. Edwin Oshiba, Administrative Assistant to the Secretary of the Air Force

7. Ms. Glenda Scheiner, Assistant Deputy Chief of Staff for Manpower, Personnel and Services

8. Ms. Darlene Costello, Principal Deputy Assistant Secretary of the Air Force Acquisition, Technology & Logistics

9. Mr. Douglas Sanders, Principal Deputy General Counsel of the Air Force

10. Ms. Katharine Kelley, Deputy Chief of Space Operations for Human Capital, United States Space Force

11. Ms. Shannon McGuire (Legal Advisor), Deputy General Counsel for Fiscal Ethics and Administrative Law

12. Mr. Richard Desmond (Legal Advisor), Associate General Counsel of the Air Force

The following Tier 3 Career SES members will serve as alternates:

1. Mr. Douglas Bennett, Auditor General of the Air Force

2. Mr. William Bailey, Director and Program Executive Officer for the Air Force Rapid Capabilities Office

3. Mr. Thomas Lawhead, Assistant Deputy Chief of Staff, Strategy Integration and Requirements

4. Mr. Stephen Hart, Assistant Deputy Chief of Staff, Strategic Plans and Programs

5. Ms. Venice Goodwine, Chief Information Officer

6. Ms. Jennifer Miller, Director of Staff, Office of the Secretary of the Air Force

Tommy W. Lee,
Acting Air Force Federal Register Liaison Officer.

[FR Doc. 2024-27567 Filed 11-22-24; 8:45 am]

BILLING CODE 3911-44-P